INTERNATIONAL TRADE COMMISSION

[Investigation No. 337-TA-611]

In the Matter of Certain Magnifying Loupe Products and Components Thereof; Notice of Commission Issuance of a Limited Exclusion Order Against the Infringing Products of Respondent Found in Default; Termination of Investigation

AGENCY: U.S. International Trade Commission.

ACTION: Notice.

SUMMARY: Notice is hereby given that the U.S. International Trade Commission has issued a limited exclusion order against the infringing products of a respondent found in default, and has terminated the above-captioned investigation.

FOR FURTHER INFORMATION CONTACT: Jonathan J. Engler, Office of the General Counsel, U.S. International Trade Commission, 500 E Street, SW., Washington, DC 20436, telephone (202) 205-3112. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: This investigation was initiated on August 1, 2007, based on a complaint filed by General Scientific Corporation (“GSC”) of Ann Arbor, Michigan. 72 FR 42111 (Aug. 1, 2007). The complaint alleges violations of section 337 of the Tariff Act of 1930 (19 U.S.C. 1337), as amended, in the importation into the United States, the sale for importation, and the sale within the United States after importation of certain magnifying loupe products and components thereof by reason of infringement of claim 8 of U.S. Patent No. 5,446,507, claim 1 of U.S. Patent No. 6,513,929, or claims 1-5 or 10 of U.S. Patent No. 6,704,141. The complaint further alleges that an industry in the United States exists as required by subsection (a)(2) of section 337. The complainant requested that the Commission issue an exclusion order and cease and desist orders. The complaint named SheerVision, Inc. (“SheerVision”), of Rolling Hills Estates, California, as well as Nanjing JinJiahe I/E Co. (“Nanjing”), of Jiangsu, China, as respondents.

On January 28, 2008, GSC and respondent SheerVision jointly moved to terminate this investigation with respect to SheerVision based on a settlement agreement and a proposed consent order. On February 8, 2008, the ALJ issued an ID (Order No. 8) granting the motion to terminate. The Commission determined not to review the ID.

On March 10, 2008, GSC filed a motion requesting an order directing respondent Nanjing to show cause why it should not be found in default for failure to respond to the complaint and Notice of Investigation. On March 21, 2008, the ALJ issued Order No. 9, which ordered Nanjing to show cause by April 4, 2008 why it should not be found in default. No response to Order No. 9 was filed. On April 25, 2008, the ALJ issued an ID, Order No. 10, finding Nanjing in default. The Commission determined not to review that ID. Because Nanjing was found to be in default, the Commission issued notice of its consideration of a default remedy, and requested briefing from interested parties on remedy, the public interest, and bonding on May 16, 2008.

The Commission investigative attorney and GSC submitted briefing responsive to the Commission's request on May 30 and May 29, 2008, respectively, and each proposed a limited exclusion order directed to Nanjing's accused products, and recommended allowing entry under bond of 100 percent of entered value during the period of Presidential review.

The Commission found that each of the statutory requirements of section 337(g)(1)(A)-(E), 19 U.S.C. 1337(g)(1)(A)-(E), has been met with respect to the defaulting respondents. Accordingly, pursuant to section 337(g)(1), 19 U.S.C. 1337(g)(1), and Commission rule 210.16(c), 19 CFR 210.16(c), the Commission presumed the facts alleged in the complaint to be true.

The Commission has determined that the appropriate form of relief in this investigation is a limited exclusion order prohibiting the unlicensed entry of certain magnifying loupe products and components thereof, by reason of infringement of one or more of claim 8 of U.S. Patent No. 5,446,507, claim 1 of U.S. Patent No. 6,513,929, and claims 1-5 and 10 of U.S. Patent No. 6,704,141 that are manufactured abroad by or on behalf of, or imported by or on behalf of, Nanjing JinJiahe I/E Co. of Jiangsu, China, or any of its affiliated companies, parents, subsidiaries, or other related business entities, or any of their successors or assigns. The Commission further determined that the public interest factors enumerated in section 337(g)(1), 19 U.S.C. 1337(g)(1), do not preclude issuance of the limited exclusion order. Finally, the Commission determined that the bond under the limited exclusion order during the Presidential review period shall be in the amount of 100 percent of the entered value of the imported articles. The Commission's order was delivered to the President and the United States Trade Representative on the day of its issuance.

The Commission has terminated this investigation. The authority for the Commission's determination is contained in section 337 of the Tariff Act of 1930, as amended (19 U.S.C. 1337), and sections 210.16(c) and 210.41 of the Commission's Rules of Practice and Procedure (19 CFR 210.16(c) and § 210.41).

Issued: July 24, 2008.
By order of the Commission.
Marilyn R. Abbott,
Secretary.

[FR Doc. E8-17662 Filed 7-31-08; 8:45 am]

BILLING CODE 7020-02-P